DEPARTMENT OF THE INTERIOR

Fish and Wildlife Service

Endangered and Threatened Wildlife and Plants; 5-Year Review of Five Midwestern Species

AGENCY: Fish and Wildlife Service, Interior.

ACTION: Notice of review.

SUMMARY: We, the U.S. Fish and Wildlife Service (Service), announce a 5-year review of gray bat (Myotis grisecens), Iowa Pleistocene snail (Discus macclintocki), decurrent false aster (Boltonia decurrens), Pitcher's thistle (Cirsium pitcheri), and western prairie fringed orchid (Platanthera praeclara) under section 4(c)(2)(A) of the Endangered Species Act of 1973 (Act) (16 U.S.C. 1531 et seq.). We request any information on the aforementioned species since their original listings that has a bearing on their classification as threatened or endangered.

A 5-year review is a periodic process conducted to ensure that the classification of a listed species is appropriate. It is based on the best scientific and commercial data available at the time of the review. We will make a finding of whether these species are properly classified under section 4(c)(2)(B) of the Act, based on the results of these 5-year reviews.

DATES: Information must be received no later than May 30, 2006.

ADDRESSES: Submit information to the appropriate U.S. Fish and Wildlife Service office. See SUPPLEMENTARY INFORMATION for complete addresses.

FOR FURTHER INFORMATION CONTACT: 1. Gray bat: Dr. Paul McKenzie, Columbia Ecological Services Field Office (see ADDRESSES); telephone (573) 234-2132, extension 107; facsimile (573) 234-2181.

2. Iowa Pleistocene snail: Ms. Cathy Henry, Driftless Area National Wildlife Refuge (see ADDRESSES); telephone (563) 873-3423; facsimile (563) 873-3803.

3. Decurrent false aster: Ms. Jody Millar, Rock Island Ecological Services Field Office (See ADDRESSES); telephone (309) 793-5800; facsimile (309) 793-5804.

4. Pitcher's thistle: Mr. Mike DeCapita, East Lansing Ecological Services Field Office (see ADDRESSES); telephone (517) 351-2555; facsimile (517) 351-1443.

5. Western prairie fringed orchid: Mr. Phil Delphey, Twin Cities Ecological Services Field Office (see ADDRESSES); telephone (612) 725-3548, extension 206; facsimile (612) 725-3609.

Individuals who are hearing impaired or speech impaired may call the Federal Relay Service at (800) 877-8337 for TTY assistance.

SUPPLEMENTARY INFORMATION: Under the Act, the Service maintains a list of endangered and threatened wildlife and plant species (List) at 50 CFR 17.11 and 17.12. Amendments to the List through final rules are published in the Federal Register. The Lists of wildlife and plants are available on our Internet site at http://www.fws.gov/endangered/wildlife/html#species. Section 4(c)(2)(A) of the Act requires that we conduct a review of listed species at least once every five years. Section 4(c)(2)(B) requires that we determine (1) Whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiates that the species is neither endangered nor threatened for one or more of the following reasons: (1) The species is considered extinct; (2) the species is considered to be recovered; and/or (3) the original data available when the species was listed, or the interpretation of such data, were in error. Any change in Federal classification requires a separate rulemaking process. The regulations in 50 CFR 424.21 require that we publish a notice in the Federal Register announcing those species currently under active review. This notice announces our active review of gray bat, Iowa Pleistocene snail, decurrent false aster, Pitcher's thistle, and western prairie fringed orchid. Table 1 provides a summary of the listing information for the species under active review.

Table 1.—Listing Information Summary
Common name | Scientific name | Status | Historic range | Final rule
Gray bat | Myotis grisescens | Endangered | Central and Southeastern U.S.A | Apr. 28, 1976 (41 FR 17736)
Iowa Pleistocene snail | Discus macclintocki | Endangered | U.S.A. (IA) | July 3, 1978 (43 FR 28932)
Decurrent false aster | Boltonia decurrens | Threatened | U.S.A. (IL, MO) | Nov. 14, 1988 (53 FR 45858)
Pitcher's thistle | Cirsium pitcheri | Threatened | U.S.A. (IL, IN, MI, WI) Canada (ON.) | July 18, 1988 (53 FR 27137)
Western prairie fringed orchid | Platanthera praeclara | Threatened | U.S.A. (IA, MN, MO, NE, ND, OK, KS, SD), Canada (MB) | Sept. 28, 1989 (54 FR 39857)

Public Solicitation of New Information

To ensure that the 5-year reviews are complete and based on the best available scientific and commercial information, we are soliciting new information from the public, concerned governmental agencies, tribes, the scientific community, industry, environmental entities, and any other interested parties concerning the status of the species identified in Table 1. A 5-year review considers the best scientific and commercial data and all new information that has become available since the listing determination or most recent status review. Requested information includes (A) Species biology, including but not limited to, population trends, distribution, abundance, demographics, and genetics; (B) habitat conditions, including but not limited to, amount, distribution, and suitability; (C) conservation measures that have been implemented that benefit the species; (D) threat status and trends; and (E) other new information, data, or corrections, including but not limited to, taxonomic or nomenclature changes, identification of erroneous information contained in the List, and improved analytical methods.

You may submit your comments and materials to the appropriate Field Supervisor or Refuge Manager (see ADDRESSES below) no later than the close of the comment period (see DATES) to allow us adequate time to conduct these 5-year reviews. If you do not respond to this request for information, but subsequently possess information on the status of any of these species, we are eager to receive new information regarding federally listed species at any time.

Our practice is to make comments, including names and home addresses of respondents, available for public review during regular business hours. Respondents may request that we withhold a respondent's identity, as allowable by law. If you wish us to withhold your name or address, you must state this request prominently at the beginning of your comment. We will not, however, consider anonymous comments. To the extent consistent with applicable law, we will make all submissions from organizations or businesses, and from individuals identifying themselves as representatives or officials of organizations or businesses, available for public inspection in their entirety. Information received in response to this notice and review will be available for public inspection, by appointment, during normal business hours (see ADDRESSES below).

Submit information to the U.S. Fish and Wildlife Service, Ecological Services Field Supervisor or Driftless Area National Wildlife Refuge Manager at the following ADDRESSES:

1. Gray bat: Columbia Ecological Services Field Office, 101 Park DeVille Drive, Suite A, Columbia, Missouri 65203-0057.

2. Iowa Pleistocene snail: Driftless Area National Wildlife Refuge, P.O. Box 460, McGregor, Iowa 52157.

3. Decurrent false aster: Rock Island Ecological Services Field Office, 4469-48th Avenue Court, Rock Island, Illinois 61201.

4. Pitcher's thistle: East Lansing Ecological Services Field Office, 2651 Coolidge Road, Suite 101, East Lansing, Michigan 48823-6316.

5. Western prairie fringed orchid: Twin Cities Ecological Services Field Office, 4101 East 80th Street, Bloomington, Minnesota 55425-1665.

Authority: This document is published under the authority of the Endangered Species Act of 1973, as amended (16 U.S.C. 1531 et seq.).

Dated: March 9, 2006.
Lynn M. Lewis,
Deputy Assistant Regional Director, Ecological Services, Region 3.

[FR Doc. E6-4616 Filed 3-29-06; 8:45 am]

BILLING CODE 4310-55-P